AGENCY FOR INTERNATIONAL DEVELOPMENT

Background Investigator Quality Control Survey

AGENCY: USAID.

ACTION: Availability of survey.

SUMMARY: Quality control survey to allow the USAID Office of Security Field Investigations program to obtain feedback on its background investigator workforce from members of the general public who are interviewed by USAID background investigators.

DATES: Written comments and recommendations for the proposed information collection should be sent within 30 days of publication of this notice to www.reginfo.gov/public/do/PRAMain. Find this particular information collection by selecting “Currently under 30-day Review—Open for Public Comments” or by using the search function.

ADDRESSES: USAID, SEC/FI, 1300 Pennsylvania Ave. NW, 4th Floor, Washington, DC 20523.

FOR FURTHER INFORMATION CONTACT: Brian Shemonsky, (202) 712-1734, bshemonsky@usaid.gov.

SUPPLEMENTARY INFORMATION: USAID currently conducts this quality control process via U.S. Mail and telephone calls. The agency is seeking to both modernize and simplify this process.

Brian Shemonsky,
Background Investigations Program Manager.

[FR Doc. 2023-27430 Filed 12-13-23; 8:45 am]

BILLING CODE 6116-01-P